DEPARTMENT OF THE INTERIOR

Fish and Wildlife Service

[FWS-R4-ES-2013-N174 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by September 11, 2013.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: David Dell, Permit Coordinator).

FOR FURTHER INFORMATION CONTACT: David Dell, Permit Coordinator, telephone 404-679-7313; facsimile 404-678-7081.

SUPPLEMENTARY INFORMATION: The public is invited to comment on the following applications for permits to conduct certain activities with endangered and threatened species pursuant to section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to: permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Application Number: TE05601B

Applicant: Ross Scott, Naples, Florida.

The applicant requests authorization to take red-cockaded woodpeckers (Picoides borealis) for the purpose of installing artificial cavity inserts, drilling cavities and advanced starts, and monitoring, handling, banding, and translocating red-cockaded woodpeckers. These activities will be conducted throughout the range of the species in Florida, Alabama, Arkansas, Georgia, North Carolina, South Carolina, Kentucky, Tennessee, Mississippi, and Louisiana.

Permit Application Number: TE18225A

Applicant: CH2M Hill, Atlanta, Georgia.

The applicant requests authorization to take endangered fish species while conducting listed species monitoring activities. These activities will be conducted in the Georgia segment of the Chattahoochee River Basin.

Permit Application Number: TE079863

Applicant: Michael Gangloff, Boone, North Carolina.

The applicant requests authorization to amend his permit to take (capture, handle, conduct tissue sampling, release, and collect dead shells for identification) eight additional species of freshwater mussels for the purpose of conducting presence/absence/population surveys and assisting in species recovery efforts. These activities will be conducted throughout the range of these species: Alabama pearlshell (Margaritifera marrianae), Choctaw bean (Villosa/Obovaria choctawensis), Escambia pigtoe (Fusconaia escambia), fuzzy pigtoe (Pleurobema strodeanum), round ebonyshell (Fusconaia rotulata), Southern kidneyshell (Ptychobranchus jonesi), Southern sandshell (Hamiota australis), and tapered pigtoe (Fusconaia burkei).

Permit Application Number: TE12156B

Applicant: Arkansas Department of Environmental Quality, Little Rock, Arkansas.

The applicant is requesting authorization to perform normal fisheries and macroinvertebrate biomonitoring activities in streams/rivers of Arkansas that currently host the following federally listed species: yellowcheek darter (Etheostoma moorei), Arkansas darter (Etheostoma cragini), Arkansas River shiner (Notropis girardi), leopard darter (Percina pantherina), pallid sturgeon (Scaphirhynchus albus).

Permit Application Number: TE136808

Applicant: Loggerhead Marine Life Center, Charles A. Manire, Juno Beach, Florida.

The applicant requests authorization to take (receive, hold, rehabilitate, release, euthanize) the Kemp's Ridley sea turtle (Lepidochelys kempii), hawksbill sea turtle (Eretmochelys imbricata), leatherback sea turtle (Dermochelys coriacea), green sea turtle (Chelonia mydas), loggerhead sea turtle (Caretta caretta), and olive ridley sea turtle (Lepidochelys olivacea) while providing medical treatment and rehabilitation services. The proposed activities would occur at the Loggerhead Marine Life Center, Juno Beach, Florida.

Permit Application Number: TE069280

Applicant: Alabama Department of Transportation, Montgomery, Alabama.

The applicant requests authorization to take Alabama beach mouse (Peromyscus polionotus ammobates) for the purpose of conducting presence/absence/population surveys and assisting in species recovery efforts. These activities will be conducted throughout the range of the species in Alabama.

Permit Application Number: TE11866B

Applicant: USDA Forest Service, Columbia, South Carolina.

The applicant requests authorization to take American chaffseed (Schwalbea americana) seeds for the purpose of improving greenhouse cultivation methods and reintroduction techniques. These activities will be conducted in the Francis Marion and Sumter National Forests, in South Carolina.

Permit Application Number: TE05089B

Applicant: Apogee Environmental & Archaeological, Whitesburg, Kentucky.

The applicant requests authorization to take (capture, handle, conduct tissue sampling, and release) 42 species of freshwater mussels for the purpose of conducting presence/absence/population surveys and assisting in species recovery efforts. These activities will be conducted throughout the range of each species:

Alabama lamp pearl mussel (Lampsilis virescens), Altamaha spinymussel (Elliptio spinosa), Appalachian monkeyface mussel (Quadrula sparsa), birdwing pearly mussel (Lemiox rimosus), clubshell pearly mussel (Pleurobema clava), cracking pearly mussel (Hemistena lata), Cumberland bean mussel (Villosa trabalis), Cumberland monkeyface mussel (Quadrula intermedia), Curtis' pearly mussel (Epioblasma curtisi), Dromedary pearly mussel (Dromus dromas), dwarf wedgemussel (Alasmidonta heterodon), fanshell (Cyprogenia stegaria), fat three-ridge (Amblema neislerii), fat pocketbook mussel (Potamilus capax), green-blossom pearly mussel (Epioblasma torulosa gubernaculum), Higgins' eye mussel (Lampsilis higginsii), James spinymussel (Pleurobema collina), littlewing pearly mussel (Pegias fabula), Neosho mucket (Lampsilis rafinesqueana), Nicklin's pearly mussel (Unio nickliniana), Northern riffleshell (Epioblasma torulosa rangiana), orange-footed pimpleback mussel (Plethobasus cooperianus), oyster mussel (Epioblasma capsaeformis), pale lilliput pearly mussel (Toxolasma cylindrellus), pinkmucket mussel (Lampsilis orbiculata orbiculata), purple cat's paw (Epioblasma obliquata obliquata), purple bankclimber (Elliptoideus sloatianus), rabbitsfoot (Quadrula cylindrica), rayed bean mussel (Villosa fabalis), ring pink mussel (Obovaria retusa), rough pigtoe mussel (Pleurobema plenum), scaleshell mussel (Leptodea leptodon), slab-side pearly mussel (Lexingtonia dolabelloides), sheepnose (Plethobasus cyphyus), Tampico pearly mussel (Unio tampicoensis tecomatensis), Tar River spinymussel (Elliptio steinstansana), tubercled-blossom pearly mussel (Epioblasma torulosa torulosa), turgid-blossom pearly mussel (Epioblasma turgidula), white cat's paw mussel (Epioblasma sulcata perobliqua), white wartyback mussel (Plethobasus cicatricosus), winged mapleleaf mussel (Quadrula fragosa), yellow-blossom pearl mussel (Epioblasma florentina).

Permit Application Number: TE237535

Applicant: Bok Tower Gardens, Lake Wales, Florida.

The applicant requests authorization to take scrub lupine (Lupinus aridorum) for the purpose of seed harvesting, germ plasm storage, and germination research in Polk County, Florida.

Permit Application Number: TE812344

Applicant: Pennington and Associates, Inc., Cookeville, Tennessee.

The applicant requests authorization to take (capture, handle, conduct tissue sampling, and release) 18 species of freshwater fish, 1 species of freshwater crayfish, 2 species of freshwater snails, and 43 species of freshwater mussels for the purpose of conducting presence/absence/population surveys and assisting in species recovery efforts. These activities will be conducted throughout the range of each species: Cumberland elktoe (Alasmidonta atropurpurea), Appalachian elktoe (Alasmidonta raveneliana), Anthony's riversnail (Athearnia anthonyi), blue shiner (Cyprinella caerulea), birdwing pearly mussel (Lemiox rimosus), spectaclecase (Cumberlandia monodonta), fanshell (Cyprogenia stegaria), Cumberlandian combshell (Epioblasma brevidens), oyster mussel (Epioblasma capsaeformis), upland combshell (Epioblasma metastriata), purple cat paw pearly mussel (Epioblasma obliquata obliquata), Southern acornshell (Epioblasma othcaloogensis), brown-blossom pearl mussel (Epioblasma walkeri), slackwater darter (Etheostoma boschungi), bluemask darter (Etheostoma (doration) sp.), duskytail darter (Etheostoma percnurum), snuffbox mussel (Epioblasma triquetra), boulder darter (Etheostoma wapiti), Cumberland darter (Etheostoma susanae), fine-rayed pigtoe mussel (Fusconaia cuneolus), shiny pigtoe mussel (Fusconaia edgariana), cracking pearly mussel (Hemistena lata), slender chub (Erimystax cahni), spotfin chub (Erimonax monachus), kidneyshell (Ptychobranchus species), finelined pocketbook (Lampsilis altilis), pinkmucket mussel (Lampsilis orbiculata), Alabama lamp pearl mussel (Lampsilis virescens), slab-side pearly mussel (Lexingtonia dolabelloides), scaleshell mussel (Leptodea leptodon), alabama moccasinshell (Medionidus acutissimus), Coosa moccasinshell (Medionidus parvulus), yellowfin madtom (Noturus flavipinnis), Pygmy madtom (Noturus stanauli), smoky madtom (Noturus baileyi), Chucky madtom (Noturus crypticus), palezone shiner (Notropis albizonatus), ring pink mussel (Obovaria retusa), Nashville crayfish (Orconectes shoupi), sheepnose (Plethobasus cyphyus), littlewing pearly mussel (Pegias fabula), amber darter (Percina antesella), Conasauga logperch (Percina jenkinsi), snail darter (Percina tanasi), blackside dace (Phoxinus cumberlandensis), dace (Phoxinus species), white wartyback mussel (Plethobasus cicatricosus), clubshell pearly mussel (Pleurobema clava), orange-footed pimpleback mussel (Plethobasus cooperianus), ovate clubshell (Pleurobema perovatum), Southern pigtoe (Pleurobema georgianum), Cumberland pigtoe (Pleurobema gibberum), Georgia pigtoe (Pleurobema hanleyianum), rough pigtoe mussel (Pleurobema plenum), triangular kidneyshell (Ptychobranchus greenii), royal marstonia (Pyrgulopsis ogmorhaphe), rough rabbitsfoot (Quadrula cylindrica strigillata), winged mapleleaf mussel (Quadrula fragosa), Cumberland monkeyface mussel (Quadrula intermedia), Appalachian monkeyface mussel (Quadrula sparsa), pale lilliput pearly mussel (Toxolasma cylindrellus), rayed bean mussel (Villosa fabalis), purple bean mussel (Villosa perpurpurea), Cumberland bean mussel (Villosa trabalis).

Dated: August 5, 2013.
Mike Oetker,
Acting Regional Director.

[FR Doc. 2013-19439 Filed 8-9-13; 8:45 am]

BILLING CODE 4310-55-P